DEPARTMENT OF STATE

[Public Notice: 5589]

U.S. National Commission for UNESCO Notice of Commission Renewal

The Department of State announces the renewal of the U.S. National Commission for the United Nations Educational, Scientific, and Cultural Organization (UNESCO). The U.S. National Commission for UNESCO, which operates pursuant to 22 U.S. Code 287o and the requirements of the Federal Advisory Committee Act (FACA), will provide recommendations to the U.S. Department of State. The primary focus of the recommendations will relate to the formulation and implementation of U.S. policy towards UNESCO on matters of education, science, communications, and culture. In its efforts to uphold and promote human rights, tolerance, and learning worldwide, the U.S. National Commission for UNESCO is necessary and in the public interest.

To contact the commission, please visit www.state.gov/p/io/unesco or call (202) 663-0026 or e-mail DCUNESCO@state.gov.

Susanna Connaughton,
Executive Director, U.S. National Commission for UNESCO, Bureau of International Organization Affairs, Department of State.

[FR Doc. E6-21298 Filed 12-13-06; 8:45 am]

BILLING CODE 4710-19-P